ENVIRONMENTAL PROTECTION AGENCY

40 CFR Part 52

[EPA-R04-OAR-2014-0915; FRL-9928-87-Region 4]

Approval and Promulgation of Implementation Plans; South Carolina; Charlotte-Rock Hill; Base Year Emissions Inventory and Emissions Statements Requirements for the 2008 8-Hour Ozone Standard

AGENCY: Environmental Protection Agency.

ACTION: Proposed rule.

SUMMARY: The Environmental Protection Agency (EPA) is proposing to approve the portions of the state implementation plan (SIP) revisions submitted by the State of South Carolina, through South Carolina Department of Health and Environmental Control on August 8, 2014, and August 22, 2014, that address the base year emissions inventory and emissions statements requirements for the State's portion of the bi-state Charlotte-Gastonia-Rock Hill North Carolina-South Carolina 2008 8-hour ozone national ambient air quality standards (NAAQS) nonattainment area. Annual emissions reporting (i.e., emissions statements) and a base year emissions inventory are required for all ozone nonattainment areas. The Area is comprised of the entire county of Mecklenburg and a portion of Cabarrus, Gaston, Lincoln, Rowan, Union Counties in North Carolina and a portion of York County in South Carolina. EPA has published proposed and direct final actions on the emissions inventory and emissions statements requirements for the North Carolina portion of the bi-state Charlotte Area in separate rulemaking documents.

DATES: Written comments must be received on or before July 13, 2015

ADDRESSES: Submit your comments, identified by Docket ID No. EPA-R04-OAR-2014-0915 by one of the following methods:

1. www.regulations.gov: Follow the on-line instructions for submitting comments.

2. Email: R4-ARMS@epa.gov.

3. Fax: (404) 562-9019.

4. Mail: “EPA-R04-OAR-2014-0915,” Air Regulatory Management Section (formerly the Regulatory Development Section), Air Planning and Implementation Branch (formerly the Air Planning Branch), Air, Pesticides and Toxics Management Division, U.S. Environmental Protection Agency, Region 4, 61 Forsyth Street SW., Atlanta, Georgia 30303-8960.

5. Hand Delivery or Courier: Lynorae Benjamin, Chief, Air Regulatory Management Section, Air Planning and Implementation Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 a.m. to 4:30 p.m., excluding Federal holidays.

Please see the direct final rule which is located in the Rules section of this Federal Register for detailed instructions on how to submit comments.

FOR FURTHER INFORMATION CONTACT: Tiereny Bell, Air Regulatory Management Section, Air Planning and Implementation Branch, Air, Pesticides and Toxics Management Division, U.S. Environmental Protection Agency, Region 4, 61 Forsyth Street SW., Atlanta, Georgia 30303-8960. Ms. Bell can be reached at (404) 562-9088 and via electronic mail at bell.tiereny@epa.gov.

SUPPLEMENTARY INFORMATION: For additional information see the direct final rule which is published in the Rules Section of this Federal Register. A detailed rationale for the approval is set forth in the direct final rule. If no adverse comments are received in response to this rule, no further activity is contemplated. If EPA receives adverse comments, the direct final rule will be withdrawn and all comments received will be addressed in a subsequent final rule based on this proposed rule. EPA will not institute a second comment period on this document. Any parties interested in commenting on this document should do so at this time.

Dated: May 28, 2015.
Heather McTeer Toney,
Regional Administrator, Region 4.

[FR Doc. 2015-14346 Filed 6-11-15; 8:45 am]

BILLING CODE 6560-50-P